DEPARTMENT OF TRANSPORTATION

Federal Aviation Administration

Notice of Intent to Rule on Application (00-02-C-00-TWF) To Impose and Use the Revenue From a Passenger Facility Charge (PFC) at Joslin Field-Magic Valley Regional Airport, Submitted by the City of Twin Falls, Joslin Field-Magic Valley Regional Airport, Twin Falls, Idaho

AGENCY: Federal Aviation Administration (FAA), DOT.

ACTION: Notice of Intent to Rule on Application.

SUMMARY: The FAA proposes to rule and invites public comment on the application to impose and use PFC revenue at Joslin Field-Magic Valley Regional Airport under the provisions of 49 U.S.C. 40117 and Part 158 of the Federal Aviation Regulations (14 CFR 158).

DATES: Comments must be received on or before April 3, 2000.

ADDRESSES: Comments on this application may be mailed or delivered in triplicate to the FAA at the following address: Mr. J. Wade Bryant, Manager; Seattle Airports District Office, SEA-ADO; Federal Aviation Administration; 1601 Lind Avenue SW, Suite 250, Renton, Washington 98055-4056.

In addition, one copy of any comments submitted to the FAA must be mailed or delivered to, Mr. David Allen, Airport Manager, at the following address: 321 Second Avenue East, P.O. Box 1907, Twin Falls, Idaho 83303-1907.

Air Carriers and foreign air carriers may submit copies of written comments previously provided to Joslin Field-Magic Valley Regional Airport under section 158.23 of Part 158.

FOR FURTHER INFORMATION CONTACT: Ms. Suzanne Lee-Pang; Seattle Airports District Office, SEA-ADO, Federal Aviation Administration; 1601 Lind Avenue SW, Suite 250, Renton, Washington 98055-4056. The application may be reviewed in person at this same location.

SUPPLEMENTARY INFORMATION: The FAA proposes to rule and invites public comment on the application (00-02-C-00TWF) to impose and use PFC revenue at Joslin Field-Magic Valley Airport, under the provisions of 49 U.S.C. 40117 and Part 158 of the Federal Aviation Regulations (14 CFR Part 158).

On February 23, 2000, the FAA determined that the application to impose and use the revenue from a PFC submitted by the City of Twin Falls, Joslin Field-Magic Valley Regional Airport, Twin Falls Idaho, was substantially complete within the requirements of section 158.25 of Part 158. The FAA will approve or disapprove the application, in whole or in part, no later than May 23, 2000.

The following is a brief overview of the application.

Level of the proposed PFC: $3.00.

Proposed charge effective date: August 1, 2002.

Proposed charge expiration date: January 1, 2007.

Total requested for use approval: $483,040.

Brief description of proposed project: Reconstruct Northwest Apron, Airport Signing System Update, Aircraft Rescue and Fire Fighting (ARFF) Vehicle and Equipment, Terminal Building Auto Parking and Lighting, Apron Expansion, Medium Intensity Taxiway Lighting System, ARFF Building, Runway 7/25 Cable System Rehabilitation and Wind Cone Replacement, and Rehabilitation of Runway 7/25.

Class or classes of air carriers which the public agency has requested not be required to collect PFC's: Air taxi/commercial operators utilizing aircraft having a seat capacity of less than twenty passengers.

Any person may inspect the application in person at the FAA office listed above under FOR FURTHER INFORMATION CONTACT and at the FAA Regional Airport Office located at: Federal Aviation Administration, Northwest Mountain Region, Airports Division, ANM-600, 1601 Lind Avenue S.W., Suite 315, Renton, WA 98055-4056.

In addtion, any person may, upon request, inspect the application, notice and other documents germane to the application in person at the Joslin Field-Magic Valley Regional Airport.

Issued in Renton, Washington on February 23, 2000.
David A. Field,
Manager, Planning, Programming and Capacity Branch, Northwest Mountain Region.

[FR Doc. 00-5058 Filed 3-1-00; 8:45 am]

BILLING CODE 4910-13-M